DEPARTMENT OF THE INTERIOR

National Park Service

[NPS-WASO-NAGPRA-NPS0038092; PPWOCRADN0-PCU00RP14.R50000]

Notice of Inventory Completion: University of Georgia, Laboratory of Archaeology, Athens, GA

AGENCY: National Park Service, Interior.

ACTION: Notice.

SUMMARY: In accordance with the Native American Graves Protection and Repatriation Act (NAGPRA), the University of Georgia, Laboratory of Archaeology has completed an inventory of human remains and associated funerary objects and has determined that there is a cultural affiliation between the human remains and associated funerary objects and Indian Tribes or Native Hawaiian organizations in this notice.

DATES: Repatriation of the human remains and associated funerary objects in this notice may occur on or after July 17, 2024.

ADDRESSES: Dr. Amanda Roberts Thompson, The University of Georgia, Laboratory of Archaeology, 1125 E Whitehall Road, Athens, GA 30605, telephone (706) 542-8373, email arobthom@uga.edu.

SUPPLEMENTARY INFORMATION: This notice is published as part of the National Park Service's administrative responsibilities under NAGPRA. The determinations in this notice are the sole responsibility of the University of Georgia, Laboratory of Archaeology and additional information on the determinations in this notice, including the results of consultation, can be found in its inventory or related records. The National Park Service is not responsible for the determinations in this notice.

Abstract of Information Available

Ancestor remains representing at minimum 31 individuals were removed from 9BR2 in Bartow County, Georgia. The site was excavated during field schools by the University of Georgia (UGA) in 1988, 1989, and 1990 under the direction of Dave Hally. The 185 associated funerary objects include indigenous ceramics, lithic fragments, faunal remains, charcoal, and shell. The collection was then housed at the University of Georgia, Laboratory of Archaeology after each field school and there is no record of any potentially hazardous substances used to treat the ancestors or associated funerary objects.

Ancestor remains representing at minimum one individual were removed from 9BR9, Walt Jones Farm in Bartow County, Georgia. In 1972, Claire Wilkie and R.S. Dickens collected ancestors that were disturbed from a road cut at 9BR9. In 1991, Georgia State University transferred the collection to UGA. The collection was then housed at the University of Georgia, Laboratory of Archaeology. No associated funerary objects are present and there is no record of any potentially hazardous substances used to treat the ancestors or associated funerary objects.

Ancestor remains representing at minimum one individual were removed from 9BR26, Raccoon Creek in Bartow County, Georgia. In 1984, Bill Kilmer excavated at the site and the collection was then housed at the collection then housed at the University of Georgia, Laboratory of Archaeology. The 133 associated funerary objects include indigenous ceramics, burnt clay, and lithics. There is no record of any potentially hazardous substances used to treat the ancestors or associated funerary objects.

Ancestor remains representing at minimum four individuals were removed from 9BR57, Garfield in Bartow County, Georgia. James Chapman's name is associated with the material housed at the UGA Laboratory of Archaeology so this collection was likely excavated in the 1960s. This collection was transferred to the Laboratory in 1991 from Georgia State University by Lewis Larson and given the Catalogue Number 34310. No associated funerary objects are present. There is no record of any potentially hazardous substances used to treat the ancestors or associated funerary objects.

Ancestor remains representing at minimum one individual were removed from 9BR195 in Bartow County, Georgia. In 1951 Mary Kellogg visited the site and surface collected material from it and then housed at the UGA Laboratory of Archaeology. No associated funerary objects are present. There is no record of any potentially hazardous substances used to treat the ancestors or associated funerary objects.

Ancestor remains representing at minimum 18 individuals were removed from 9BR199, Cora Harris in Bartow County, Georgia. In 1951, Arthur Kelly and Mary Kellogg had a field school at this site and excavated at least two burials. The collection was then housed at the UGA Laboratory of Archaeology. The 180 associated funerary objects include botanicals, shell, faunal including bear teeth and indeterminate claws, indigenous ceramics, animal effigy, shell beads, copper beads, lithics, ppks, and melted red glass. There is no record of any potentially hazardous substances used to treat the ancestors or associated funerary objects.

Ancestor remains representing at minimum three individuals were removed from 9BR201, Raines Cave in Bartow County, Georgia. In 1951, Arthur Kelly and Mary Kellogg had a field school at this site. The collection was then housed at the UGA Laboratory of Archaeology. No associated funerary objects are present. There is no record of any potentially hazardous substances used to treat the ancestors or associated funerary objects.

Ancestor remains representing at minimum one individual were removed from 9BR677 in Bartow County, Georgia. In 1988, Todd Frizelle and T. Jeffrey Price surface collected at the site. The collection was then housed at the UGA Laboratory of Archaeology. No associated funerary objects are present. There is no record of any potentially hazardous substances used to treat the ancestors or associated funerary objects.

Ancestor remains representing at minimum two individuals were removed from 9BR1224, Ammons Cave in Bartow County, Georgia. In 1951, Charles Thompson surface collected at the site. The collection was then housed at the UGA Laboratory of Archaeology. A total of 16 associated funerary objects are present, including unmodified lithics, faunal, and shell. There is no record of any potentially hazardous substances used to treat the ancestors or associated funerary objects.

Ancestor remains representing at minimum 39 individuals were removed from 9GO4, Thompson in Gordon County, Georgia. Initial collection at the site was done by Scheppler in 1968. He surface-collected ancestors in addition to cultural material. Formal excavations were done by John Worth from 1999-2001. Worth identified four burials during his work at the site. While subsequent excavators at the site exposed and collected ancestors no other burials were ever identified or labeled. Excavations continued at the site from 2002-2009 by Julie Gayle Markin and James Langford through the Coosawattee Foundation and the University of Georgia. There are ancestors present for almost all of these field seasons. The collection was then housed at the UGA Laboratory of Archaeology. The 776 associated funerary objects include indigenous ceramics, lithics, soil, burnt clay, faunal including drum fish teeth, ceramic ear pin, effigy, cone shaped ceramic, ceramic discs and flotation samples. There is no record of any potentially hazardous substances used to treat the ancestors or associated funerary objects.

Ancestor remains representing at minimum two individuals were removed from 9GO8, Baxter in Gordon County, Georgia. In 1968, WW Scheppler surface collected at the site. The collection was then housed at the UGA Laboratory of Archaeology. The 63 associated funerary objects include indigenous ceramics, lithics, faunal, and shell. There is no record of any potentially hazardous substances used to treat the ancestors or associated funerary objects.

Cultural Affiliation

Based on the information available and the results of consultation, cultural affiliation is clearly identified by the information available about the ancestors and associated funerary objects described in this notice.

Determinations

The University of Georgia, Laboratory of Archaeology has determined that:

• The human remains described in this notice represent the physical remains of 103 individuals of Native American ancestry.

• The 1,353 objects described in this notice are reasonably believed to have been placed with or near individual human remains at the time of death or later as part of the death rite or ceremony.

• There is a connection between the human remains and associated funerary objects described in this notice and the Kialegee Tribal Town; Miccosukee Tribe of Indians; Seminole Tribe of Florida; The Muscogee (Creek) Nation; The Seminole Nation of Oklahoma; and the Thlopthlocco Tribal Town.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after July 17, 2024. If competing requests for repatriation are received, the University of Georgia, Laboratory of Archaeology must determine the most appropriate requestor prior to repatriation. Requests for joint repatriation of the human remains and associated funerary objects are considered a single request and not competing requests. The University of Georgia, Laboratory of Archaeology is responsible for sending a copy of this notice to the Indian Tribes and Native Hawaiian organizations identified in this notice.

Authority: Native American Graves Protection and Repatriation Act, 25 U.S.C. 3003, and the implementing regulations, 43 CFR 10.10.

Dated: June 7, 2024.
Melanie O'Brien,
Manager, National NAGPRA Program.

[FR Doc. 2024-13241 Filed 6-14-24; 8:45 am]

BILLING CODE 4312-52-P